ENVIRONMENTAL PROTECTION AGENCY

40 CFR Parts 89, 90, 91, 94, 1048, 1051, 1065, and 1068

[AMS-FRL-7096-9]

RIN 2060-AI11

Control of Emissions from Nonroad Large Spark Ignition Engines and Recreational Engines (Marine and Land-based); Correction

AGENCY: Environmental Protection Agency (EPA).

ACTION: Proposed rule; correction.

SUMMARY: The Environmental Protection Agency published in the Federal Register of October 5, 2001 a document concerning new emission standards for large spark-ignition engines, recreational vehicles using spark-ignition engines, and recreational marine diesel engines. This document corrects two items in the preamble to that document.

DATES: Comments: Send written comments on this proposed rule by December 19, 2001.

Hearings: Hearings were held in the Washington, DC, area on October 24 and in Denver, CO, on October 30.

ADDRESSES: You may send written comments in paper form to Margaret Borushko, U.S. EPA, National Vehicle and Fuels Emission Laboratory, 2000 Traverwood, Ann Arbor, MI 48105. We must receive them by the date indicated under DATES above. You may also submit comments via e-mail to “nranprm@epa.gov.” In you correspondence, refer to Docket A-2000-01.

FOR FURTHER INFORMATION CONTACT: Margaret Borushko, U.S. EPA, National Vehicle and Fuels Emission Laboratory, 2000 Traverwood, Ann Arbor, MI 48105; Telephone (734) 214-4334; FAX: (734) 214-4816; e-mail: borushko.margaret@epa.gov. EPA hearings and comments hotline: 734-214-4370.

SUPPLEMENTARY INFORMATION: EPA published a document in the Federal Register of October 5, 2001 (66 FR 51098). That document proposed new emission standards for large spark-ignition engines, recreational vehicles using spark-ignition engines, and recreational marine diesel engines. On page 51172, in the first column, the information about the public hearing in Denver, Colorado should state that the hearing will occur on October 30, 2001. This is consistent with the information published in the original document under DATES.

Also, on page 51131, column 3, in the second paragraph under b., the CO emission standard that applies to field-testing procedures should be 5.0 g/kW-hr (3.8 g/hp-hr). This is consistent with the proposed regulations at § 1048.101(c).

Readers should also note a new telephone number that will serve as a hotline for updated information related to public hearings and comment period. People should call 734-214-4370 before traveling to ensure that there is no change in plans for the hearings.

Dated: October 24, 2001.
Robert Brenner,
Acting Assistant Administrator for Air and Radiation.

[FR Doc. 01-27466 Filed 11-1-01; 8:45 am]

BILLING CODE 6560-50-P